DEPARTMENT OF COMMERCE

National Oceanic and Atmospheric Administration

RIN 0648-XC620

National Marine Fisheries Service, Pacific Fishery Management Council (Pacific Council); May 6 and 9-10, 2013 Council Coordination Committee Meeting

AGENCY: National Marine Fisheries Service (NMFS), National Oceanic and Atmospheric Administration (NOAA), Commerce.

ACTION: Notice of public meetings.

SUMMARY: The Pacific Council will host a meeting of the Council Coordination Committee (CCC) consisting of the eight Regional Fishery Management Council (RFMC) chairs, vice chairs, and executive directors and its subcommittees in May 2013. The intent of this meeting is to discuss issues of relevance to the Councils, including: budget issues, CCC meeting protocols, Managing Our Nation's Fisheries 3 (MONF3) conference results, Endangered Species Act transparency, electronic monitoring, allocation review process, Department of Commerce Office of the Inspector General report action plan, new environmental review process, other topics of concern to the RFMC, and decisions and follow-up activities.

DATES: The meeting will begin at 10 a.m. on Monday, May 6, 2013, and recess at 5:30 p.m. or when business is complete; reconvene at 1:30 p.m. on Thursday, May 9, 2013 and recess at 5 p.m. or when business is complete; and reconvene at 9 a.m. on Friday, May 10, 2013 and adjourn by 5:30 p.m. or when business is complete.

ADDRESSES: The meeting will be held at the Mayflower Renaissance Hotel, 1127 Connecticut Avenue NW., Washington DC 20036. The Pacific Council address is Pacific Fishery Management Council, 7700 NE Ambassador Place, Suite 101, Portland, Oregon 97220.

FOR FURTHER INFORMATION CONTACT: Dr. Donald O. McIsaac, Executive Director; telephone: 503-820-2280 or 866-806-7204 toll free; or access the Pacific Council Web site, http://www.pcouncil.org for the current meeting location, proposed agenda, and meeting briefing materials.

SUPPLEMENTARY INFORMATION: The Magnuson-Stevens Fishery Conservation and Management Reauthorization Act (MSRA) of 2006 established the Council Coordination Committee (CCC) by amending section 302 (16 U.S.C. 1852) of the MSA. The committee consists of the chairs, vice chairs, and executive directors of each of the eight Regional Fishery Management Councils authorized by the MSA or other Council members or staff. The meeting is being held before and after the MONF3 national conference being held in Washington, DC May 6-9, 2013. The meeting and subcommittee meetings are open to the public (Submit written comments to the Pacific Council (see ADDRESSES). There will be a short closed session of the CCC Monday morning. The Web site (found at http://www.cvent.com/events/managing-our-nation-s-fisheries-3/event-summary-94ddf325198f4501996ccc62aa396aa2.aspx) has materials relevant to discussions at the CCC meetings.

Agenda

Monday, May 6, 2013

10-11 a.m. Closed session.

11 a.m.-12 p.m.

Call to Order

Open Public Comment

Managing Our Nations Fisheries III Conference

12 p.m.-1:30 p.m. Lunch

1:30-4 p.m.

CCC Meeting Guidance

Budget Issues

4-5 p.m. The Marine Fisheries Advisory Committee (MAFAC) ESA Working Group Session

4-5 p.m. OIG Report Response: CCC Subcommittee and NMFS meeting

Thursday, May 9, 2013

1:30-5 p.m.

Consideration of Managing Our Nation's Fisheries 3 Conference Results

Magnuson-Stevens Act Reauthorization and Associated Legislation Possibilities

Friday, May 10, 2013

9 a.m.-12 p.m.

ESA Transparency

Electronic Monitoring

Allocation Review Process

12-1:30 p.m. Lunch

1:30-5 p.m.

OIG Report Action Plan

New NEPA process

Discussion of Follow-up Activities

ADJOURN

The timing and order in which agenda items are addressed may change as required to effectively address the issues. The CCC will meet as late as necessary to complete scheduled business.

Special Accommodations

These meetings are physically accessible to people with disabilities. Requests for sign language interpretation or other auxiliary aids should be directed to Carolyn Porter at 503-820-2280 at least five days prior to the meeting date.

Dated: April 15, 2013.
William D. Chappell,
Acting Deputy Director, Office of Sustainable Fisheries, National Marine Fisheries Service.

[FR Doc. 2013-09188 Filed 4-18-13; 8:45 am]

BILLING CODE 3510-22-P